DEPARTMENT OF DEFENSE

Department of the Army, Corps of Engineers

Public Meetings and Public Hearings Related to the Draft Environmental Impact Statement for the Proposed Donlin Gold Mine Project, North of Crooked Creek, Alaska

AGENCY: Department of the Army, U.S. Army Corps of Engineers, DOD.

ACTION: Notice.

SUMMARY: The U.S. Army Corps of Engineers (USACE) is providing notification of public meetings to obtain comment on the Draft EIS noted above to facilitate compliance with, in part, the National Environmental Policy Act of 1969. The Bureau of Land Management (BLM) is providing notification of Alaska National Interest Lands Conservation Act (ANILCA) Section 810 Hearings related to the preliminary ANILCA 810 Findings contained in the above Draft EIS. Section 810 of the Alaska National Interest Lands Conservation Act requires the BLM to evaluate the effects of plans presented in this Draft EIS on subsistence activities in the area of the proposed action and its alternatives, and to hold public hearings if it finds that any alternative may significantly restrict subsistence activities. The analysis of environmental consequences indicates the proposed action may significantly restrict subsistence in some portions of the proposed project area. Therefore, the BLM is holding public hearings on potential subsistence impacts in conjunction with the public meetings discussed below. BLM's preliminary ANILCA 810 Findings are contained in Appendix N of the Draft EIS.

DATES: See SUPPLEMENTARY INFORMATION section for meeting dates.

ADDRESSES: See SUPPLEMENTARY INFORMATION section for meeting locations.

FOR FURTHER INFORMATION CONTACT: Mr. Keith Gordon, Project Manager, U.S. Army Corps of Engineers, Alaska District, CEPOA-RD-Gordon, P.O. Box 6898, JBER, AK, 99506-0898; via email at POA.donlingoldeis@usace.army.mil or; at 907-753-5710. Or, Mr. Alan Bittner, Anchorage Field Manager, U.S. Department of Interior, Bureau of Land Management, 907-267-1285.

SUPPLEMENTARY INFORMATION: Communities in which public meetings and hearings are scheduled are as follows (all communities are in Alaska):

Aniak—January 20, 2016, Crooked Creek—January 21, 2016, Anchorage—January 28, 2016, Bethel—February 1, 2016, Akiak—February 2, 2016, Nunapitchuk—February 3, 2016, Quinhagak—February 16, 2016, McGrath—February 26, 2016, Holy Cross—March 30, 2016, Tyonek—To be determined, Lower Kalskag—To be determined. Please note that no preliminary 810 finding of potential substantial significant restriction of subsistence has been made for Holy Cross. An 810 Hearing will be held due to its proximity to the proposed project and the existing level of subsistence use information (mapping) available.

Communities in which only public meetings are scheduled, as no preliminary 810 finding of potential substantial significant restriction of subsistence has been made, includes (all communities are in Alaska):

Kipnuk—February 17, 2016, St. Mary's—March 1, 2016, Emmonak—March 2, 2016, Toksook Bay—March 15, 2016, Hooper Bay—March 16, 2016.

Any changes to these dates and locations, as well as specific meeting and hearing locations and times in each community can be found at www.donlingoldeis.com.

Dated: December 30, 2015.
Shelia Newman,
Deputy Division Chief, Regulatory Division.

[FR Doc. 2016-00042 Filed 1-6-16; 8:45 am]

BILLING CODE 3720-58-P